DEPARTMENT OF THE INTERIOR

Bureau of Land Management

[LLOR936000.L14300000.ET0000 FUND: 13XL1109AF; HAG-13-0101; OR-67640]

Notice of Proposed Withdrawal and Opportunity for Public Meeting; Oregon

AGENCY: Bureau of Land Management, Interior.

ACTION: Notice.

SUMMARY: The Assistant Secretary of the Interior for Policy, Management and Budget proposes to withdraw on behalf of the Bureau of Land Management (BLM) 1,140.82 acres of public lands from location and entry under the United States mining laws, but not from leasing under the mineral or geothermal leasing laws, to protect the geological, cultural, botanical, recreational, and biological resources within the New River Area of Critical Environmental Concern (ACEC) located in Coos and Curry Counties, Oregon. This notice segregates the lands for up to 2 years from mining and gives the public an opportunity to comment on the proposed withdrawal application and to request a public meeting.

DATES: The BLM must receive comments and requests for a public meeting by August 5, 2013.

ADDRESSES: Comments and meeting requests should be sent to the Oregon/Washington State Director, Bureau of Land Management, P.O. Box 2965, Portland, OR 97208-2965.

FOR FURTHER INFORMATION CONTACT: Michael L. Barnes, BLM Oregon/Washington State Office, 503-808-6155, or Paul J. Rodriguez, BLM Coos Bay District Office, 541-751-4462. Persons who use a telecommunications device for the deaf (TDD) may call the Federal Information Relay Service (FIRS) at 1-800-877-8339 to reach either of the contacts stated above. The FIRS is available 24 hours a day, 7 days a week, to leave a message or question with either of the above individuals. You will receive a reply during normal business hours.

SUPPLEMENTARY INFORMATION: The BLM filed an application requesting the Assistant Secretary for Policy, Management and Budget to withdraw, subject to valid existing rights, the following described lands located in Coos and Curry Counties, Oregon, from location and entry under the United States mining laws, but not from leasing under the mineral or geothermal leasing laws, for a period of 20 years to protect the geological, cultural, botanical, recreational, and biological resources within the New River ACEC:

Willamette Meridian

T. 29 S., R. 15 W.,

sec. 35, N1/2NE1/4NE1/4;

sec. 36, lot 1, and NW1/4NW1/4; SAVING AND EXCEPTING that part subject to the right-of-way of Berg Road.

T. 30 S., R. 15 W.,

sec. 2, W1/2SW1/4, and a portion of lots 3 and 4 described as follows: Beginning at a point on the north line of said sec. 2, said point being 967.37 ft. westerly of the north quarter corner of said sec. 2; thence S. 9°29′14″ W., 192.13 ft.; thence S. 30°54′40″ W., 270.93 ft.; thence N. 83°13′00″ W., 594.73 ft.; thence S. 28°19′14″ W., 190.01 ft.; thence S. 0°19'14″ W., 422 ft. more or less to the north bank of Fourmile Creek; thence running northwesterly along the north bank of said creek to the north line of said sec. 2; thence easterly along said north line to a point, 1230 ft. more or less to the point of beginning.

sec. 3, lots 3 and 4;

sec. 10, lots 1 to 4, inclusive, E½NE¼, and SW¼SE¼;

sec. 11, lots 3 to 7, inclusive, excluding an easement 20 feet wide along northerly and easterly boundary of lots 5 and 7;

sec. 15, lots 1 to 4, inclusive, and NW¼NE¼;

sec. 21, lots 1 and 2;

sec. 22, lots 1 and 2, and NW1/4SW1/4;

sec. 28, lots 2, 3, 4, and SE1/4NE1/4;

sec. 32, lot 1;

sec. 33, lot 2.

T. 31 S., R. 15 W.,

sec. 7, lot 1;

sec. 8, lots 3, 4, 7, and 8.

The areas described aggregate 1,140.82 acres in Coos and Curry Counties.

The Assistant Secretary for Policy, Management and Budget has approved the BLM's petition/application. Therefore, the petition constitutes a withdrawal proposal of the Secretary of the Interior (43 CFR 2310.1-3(e)).

The use of a right-of-way, interagency agreement, or cooperative agreement would not adequately constrain non-discretionary uses and would not provide adequate protection of the Federal investment in the improvements located on the lands.

There are no suitable alternative sites with equal or greater benefit to the government.

No additional water rights will be needed to fulfill the purpose of the proposed withdrawal.

Records relating to the application may be examined by contacting Paul J. Rodriguez, BLM Coos Bay District Office. Comments, including names and street addresses of respondents, will be available for public review at the BLM Coos Bay District Office, 1300 Airport Lane, North Bend, OR 97459-2000, during regular business hours, Monday through Friday, except Federal holidays.

For a period until August 5, 2013, all persons who wish to submit comments, suggestions, or objections in connection with the proposed withdrawal may present their views in writing to the BLM State Director at the address indicated above. Before including your address, phone number, email address, or other personal identifying information in your comment, you should be aware that your entire comment—including your personal identifying information—may be made publicly available at any time. While you can ask us in your comment to withhold your personal identifying information from public review, we cannot guarantee that we will be able to do so.

Notice is hereby given that the BLM may hold a public meeting in connection with the proposed withdrawal. All interested parties who desire a public meeting for the purpose of being heard on the proposed withdrawal must submit a written request to the BLM State Director at the address indicated above no later than August 5, 2013. If the BLM authorized officer determines that the BLM will hold a public meeting, the BLM will publish a notice of the time and place in the Federal Register and at least one local newspaper at least 30 days before the scheduled date of the meeting.

For a period until May 6, 2015, the lands described in this notice will be segregated from location and entry under the United States mining laws, but not from leasing under the mineral or geothermal leasing laws, unless the application is denied or canceled or the withdrawal is approved prior to that date.

Licenses, permits, cooperative agreements, or discretionary land use authorizations of a temporary nature that will not significantly impact the values to be protected by the withdrawal may be allowed with the approval of the authorized officer of the BLM during the temporary segregative period.

The application will be processed in accordance with the regulations set forth in 43 CFR 2300.

Authority: 43 CFR 2310.3-1.

Fred O'Ferrall,
Chief, Branch of Land, Mineral, and Energy Resources.

[FR Doc. 2013-10654 Filed 5-3-13; 8:45 am]

BILLING CODE 4310-33-P